DEPARTMENT OF AGRICULTURE

Rural Housing Service

Deployment and Implementation of the Preservation Information Exchange (PIX) Application

AGENCY: Rural Housing Service, USDA.

ACTION: Notice; Announcement of PIX System.

SUMMARY: The Rural Housing Service (RHS) announces the deployment and implementation of the PIX System. PIX is a web-based automated system that will allow interested non-profit organizations and public bodies to register to receive e-mail notification of all relevant prepayment requests and potential sales to non-profits or public bodies of Section 515 Rural Rental Housing (RRH) properties.

FOR FURTHER INFORMATION CONTACT: For general information, applicants may contact Cynthia Reese-Foxworth, Senior Loan Officer, Office of Rental Housing Preservation, RHS, USDA, Stop 0782, 1400 Independence Avenue, SW., Washington, DC 20250, telephone (202) 720-1940 (voice) (This is not a toll free number.) or Anita Kapoor, Program Analyst, Program Support Staff, RHS, USDA, Stop 0782, 1400 Independence Avenue, SW., Washington, DC 20250, telephone (202) 690-1337 (voice) (This is not a toll free number.) or (800) 877-8339 (TDD-Federal Information Relay Service).

SUPPLEMENTARY INFORMATION:

Programs Affected

The Catalog of Federal Domestic Assistance numbers for the programs impacted by this action are: 10.415, Rural Rental Housing Loans and 10427, Rural Rental Assistance Payments.

Discussion of Announcement

Authority

Section 515 of the Housing Act of 1949 (42 U.S.C. 1485) provides RHS with the authority to provide written notice of the offer of a sale or a request to prepay an RHS loan to interested non-profit organizations and to any appropriate State and local agencies.

Accessing the PIX Web Site

State and Servicing Offices will refer all interested non-profit organizations and public bodies to register for participation in preserving low-income housing by accessing https://pix.sc.egov.usda.gov. Once interested non-profit organizations and public bodies register, Office of Rental Housing Preservation (ORHP) will activate their registration by sending an e-mail with their user ID and password. A link that provides instructions for navigating PIX can be found on the Web site listed above.

External Users

Access to the Web site is restricted to non-profit organizations and public bodies. The purpose of PIX purpose is to replace paper listings of interested non-profit organizations and public bodies formerly maintained by Agency staff. PIX will also eliminate the need for program borrowers to notify non-profit organizations and public bodies of the potential sale of their property. Non-profit organizations and public bodies of each prepayment request received by RHS and of the potential sale of RRH properties. Instead non-profit organizations and public bodies can access PIX at anytime in order to identify prepayment requests and potential sales. The ORHP will use PIX to establish a database of interested non-profit organizations and public bodies to assist in the preservation of valuable low-income housing stock in rural America.

Dated: June 26, 2006.
David J. Villano,
Acting Administrator, Rural Housing Service.

[FR Doc. 06-5915 Filed 6-29-06; 8:45 am]

BILLING CODE 3410-XV-P